FEDERAL ACCOUNTING STANDARDS ADVISORY BOARD

Notice of Public Hearing and Publication of Accounting Standard

Board Action: Pursuant to 31 U.S.C. 3511(d), the Federal Advisory Committee Act (Pub. L. No. 92-463), as amended, and the FASAB Rules Of Procedure, as amended in 2004, notice is hereby given that the Federal Accounting Standards Advisory Board (FASAB) will hold a public hearing in conjunction with its August 17-18, 2005 Board Meeting to hear comments on a recently published exposure draft—Accounting for Fiduciary Activities. The public hearing will also permit the Board to ask questions about information and points of view submitted by respondents. Those interested in testifying should contact Eileen Parlow, Assistant Director, no later than two weeks prior to the hearing and provide a short biography and written copies of prepared testimony. Ms. Parlow can be reached at 202-512-7356 or via e-mail at parlowe@fasab.gov. The ED is available on the FASAB Web site http://www.fasab.gov under Exposure Drafts.

Any interested person may attend the meeting as an observer. Building security requires advance notice of your attendance. Please call 202-512-7350 at least one day prior to the meeting.

Board Action: Pursuant to 31 U.S.C. 3511(d), the Federal Advisory Committee Act (Pub. L. No. 92-463), as amended, and the FASAB Rules Of Procedure, as amended in 2004, notice is hereby given that the FASAB has issued Statement of Federal Financial Accounting Standards (SFFAS) 29, Heritage Assets and Stewardship Land. The statement is available on the FASAB Web site at http://www.fasab.gov/standards.html.

FOR FURTHER INFORMATION, CONTACT: Wendy M. Comes, Executive Director, 441 G St., NW., Mail Stop 6K17V, Washington, DC 20548, or call (202) 512-7350.

Authority: Federal Advisory Committee Act. Pub. L. No. 92-463.

Dated: July 7, 2005.
Charles Jackson,
Federal Register Liaison Officer.

[FR Doc. 05-13758 Filed 7-12-05; 8:45 am]

BILLING CODE 1610-01-M[?USGPO Galley End:?]